SECURITIES AND EXCHANGE COMMISSION

[Investment Company Act Release No. 30567; File No. 812-14066]

ACS Wireless, Inc.; Notice of Application

June 25, 2013.

Correction

In notice document 2013-15658 beginning on page 39345 in the issue of Monday, July 1, 2013, make the following correction:

On page 39345, in the first column, the heading is corrected to read as set forth above.

[FR Doc. C1-2013-15658 Filed 7-15-13; 8:45 am]

BILLING CODE 1505-01-D